DEPARTMENT OF STATE

[Public Notice 7160]

Request for Comments and Suggestions for Environmental Cooperation Pursuant to the United States-Oman Memorandum of Understanding on Environmental Cooperation

ACTION: Notice of preparation of the 2011-2014 U.S.-Oman Environmental Cooperation Plan of Action and request for comments.

SUMMARY: The Department of State invites the public, including NGOs, educational institutions, private sector enterprises and other interested persons, to submit written comments or suggestions regarding items for inclusion in a new Plan of Action for implementing the United States-Oman Memorandum of Understanding on Environmental Cooperation (MOU) signed on February 20, 2006. We encourage submitters to refer to: (1) The U.S.-Oman MOU, (2) the U.S.-Oman 2006-2008 Environmental Cooperation Work Program, (3) the Environment Chapter (17) of the U.S.-Oman Free Trade Agreement, and (4) the Environmental Review of the U.S.-Oman Free Trade Agreement.

(Documents are available at: http://www.state.gov/g/oes/env/trade/oman/index.htm).

DATES: To be assured of timely consideration, all written comments or suggestions are requested no later than October 20, 2010.

ADDRESSES: Written comments or suggestions should be e-mailed (LindsayA@state.gov) or faxed to Abby Lindsay at (202) 647-5947, Office of Environmental Policy, Bureau of Oceans and International Environmental and Scientific Affairs, U.S. Department of State, with the subject line “U.S.-Oman Environmental Cooperation 2011-2014 Plan of Action.” If you have access to the Internet and wish to view and make comment on this Public Notice, you may do so by going to:) http://www.regulations.gov/search/Regs/home.html#home.

FOR FURTHER INFORMATION, CONTACT: Abby Lindsay, telephone (202) 647-8772. Office of Environmental Policy, Bureau of Oceans and International Environmental and Scientific Affairs, U.S. Department of State.

SUPPLEMENTARY INFORMATION: In the U.S.-Oman Memorandum of Understanding on Environmental Cooperation, the Governments (1) recognize “the importance of strengthening capacity to protect the environment while promoting sustainable development in concert with the expanded bilateral trade relationship that will accompany the United States-Oman Free Trade Agreement (FTA)” and (2) indicate their intent “to cooperate in the field of environmental and natural resource protection and sustainable development.” In the Environment Chapter of the U.S.-Oman Free Trade Agreement (Chapter 17), the Governments likewise “recognize the importance of strengthening their capacity to protect the environment and to promote sustainable development in concert with strengthening bilateral trade and investment relations.” The Governments commit to “undertaking cooperative environmental activities pursuant to” the MOU.

In Section 2 of the MOU, the Governments set forth plans to establish the Joint Forum on Environmental Cooperation (JFEC) to coordinate and review environmental cooperation activities. As envisioned in the MOU, the JFEC will “develop a Plan of Action; review and assess cooperative environmental activities undertaken pursuant to the Plan of Action; recommend ways to improve cooperation; and undertake such other activities as the Governments may deem to be appropriate.” The Plan of Action is a tool to identify and establish goals, objectives and areas for cooperation, including short-, medium- and long-term bilateral and/or regional projects and activities. Through this notice, the United States seeks to “solicit, and take into account as appropriate, the views of its public with respect to the Plan of Action.”

In March 2007, the Governments agreed to the 2006-2008 U.S.-Oman Work Program on environmental cooperation. The main areas of cooperation under the 2006-2008 Work Program were: (1) Environmental Laws and Regulations; (2) Environmental Impact Assessments; (3) Environmental Incentives; (4) Public Participation in Environmental Protection; (5) Integrated Water Resources Management and Protection; (6) Coastal Protection and Preservation of Marine Resources; (7) Protected Area Management and Conservation of Flora and Fauna; (8) Improved Environmental Performance in the Productive Sector; and (9) Chemical and Hazardous Waste Management and Disposal.

The United States anticipates building upon the cooperative work initiated in the 2006-2008 Work Program. We are requesting ideas and suggestions that may be considered for inclusion in the next Plan of Action.

For additional information: http://www.state.gov/g/oes/env/trade/oman/index.htm.

Disclaimer: This Public Notice is a request for comments and suggestions and is not a request for applications. No granting or money is directly associated with this request for suggestions for the Plan of Action. There is no expectation of resources or funding associated with any comments or suggestions provided for the 2011-2014 Plan of Action.

Dated: September 14, 2010.
Willem H. Brakel,
Director, Office of Environmental Policy, Department of State.

[FR Doc. 2010-23425 Filed 9-17-10; 8:45 am]

BILLING CODE 4710-09-P